DEPARTMENT OF ENERGY

Federal Energy Regulatory Commission

[Project No. 3409-034]

Boyne USA, Inc.; Notice of Petition for Declaratory Order

Take notice that on August 30, 2021, pursuant to Rule 207 of the Federal Energy Regulatory Commission's Rules of Practice and Procedure, 18 CFR 385.207 (2020), Boyne USA, Inc., filed a petition for declaratory order (Petition) requesting that the Commission declare that the Michigan Department of Environment, Great Lakes, and Energy has waived its authority to issue a certification for the Boyne River Hydroelectric Project No. 3409 under Section 401 of the Clean Water Act, 33 U.S.C. 1341(a)(1), as more fully explained in the Petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

Any person wishing to comment on Boyne's Petition may do so.¹ The deadline for filing comments is 30 days from the issuance of this notice. The Commission encourages electronic submission of comments in lieu of paper using the “eFiling” link at http://www.ferc.gov. Persons unable to file electronically should send comments to the following address: Federal Energy Regulatory Commission, 888 First Street NE, Washington, DC 20426. Hand delivered submissions in docketed proceedings should be delivered to Health and Human Services, 12225 Wilkins Avenue, Rockville, Maryland 20852. Be sure to reference the project docket number (P-3409-032) with your submission.

¹ Boyne's request is part of its relicensing proceeding in Project No. 3409-032. Thus, any person that intervened in the relicensing proceeding is already a party. Generally, the filing of a petition for a declaratory order involving an issue arising from the licensing proceeding does not trigger a new opportunity to intervene. Accordingly, at this point in this proceeding, any person seeking to become a party to the proceeding must file a motion to intervene out-of-time pursuant to Rule 214(b)(3) and (d) of the Commission's Rules of Practice and Procedure that provides justification by reference to the factors set forth in Rule 214(d). The Commission may limit a late intervenor's participation to the issues raised in the petition for declaratory order. 18 CFR 385.214(d)(3)(i).

In addition to publishing the full text of this document in the Federal Register, the Commission provides all interested persons the opportunity to view and/or print the contents of this document via the internet through the Commission's Home Page (http://www.ferc.gov) using the “eLibrary” link. Enter the document number excluding the last three digits in the docket number field to access the document. At this time, the Commission has suspended access to the Commission's Public Reference Room, due to the proclamation declaring a National Emergency concerning the Novel Coronavirus Disease (COVID-19), issued by the President on March 13, 2020. For assistance with any FERC Online service, please email FERCOnlineSupport@ferc.gov or call (866) 208-3676 (toll free). For TTY, call (202) 502-8659.

Comment Date: 5:00 p.m. Eastern Time on October 13, 2021.

Dated: September 13, 2021.
Debbie-Anne A. Reese,
Deputy Secretary.

[FR Doc. 2021-20128 Filed 9-16-21; 8:45 am]

BILLING CODE 6717-01-P